DEPARTMENT OF COMMERCE

Bureau of the Census

[Docket Number 141016856-4856-01]

Annual Surveys in the Manufacturing Area

AGENCY: Bureau of the Census, Department of Commerce.

ACTION: Notice of Determination.

SUMMARY: The Bureau of the Census (Census Bureau) is conducting the 2015 annual surveys in the manufacturing area. The 2015 annual surveys consist of the Annual Survey of Manufactures, the Business R&D and Innovation Survey, and the Manufacturers' Unfilled Orders Survey. These annual surveys will be sent to a sample of establishments and companies that participate in manufacturing activities. We have determined that annual data collected from these surveys are needed to aid the efficient performance of essential governmental functions, and have significant application to the needs of the public and industry. The data derived from these surveys, most of which have been conducted for many years, are not publicly available from nongovernmental or other governmental sources.

ADDRESSES: The Census Bureau will furnish report forms to organizations included in the survey. Additional copies are available upon written request to the Director, U.S. Census Bureau, Washington, DC 20233-0101.

FOR FURTHER INFORMATION CONTACT: Kevin E. Deardorff, Chief, Economy-wide Statistics Division at (301) 763-6033 or via email at kevin.e.deardorff@census.gov.

SUPPLEMENTARY INFORMATION: The Census Bureau is authorized to conduct mandatory surveys necessary to furnish current data on the subjects covered by the major censuses authorized by Title 13, United States Code, sections 61, 81, 131, 182, 193, 224, and 225. These surveys will provide continuing and timely national statistical data on manufacturing for the period between economic censuses. The data collected in the surveys will be within the general scope and nature of those inquiries covered in the economic census. The next economic census will be conducted for the year 2017.

Annual Survey of Manufactures

The Annual Survey of Manufactures collects industry statistics, such as total value of shipments, employment, payroll, workers' hours, capital expenditures, cost of materials consumed, supplemental labor costs, and so forth. This survey is conducted on a sample basis, and covers all manufacturing industries, including data on plants under construction but not yet in operation. All data items are collected on a mandatory basis under the authority of Title 13, United States Code.

Business R&D and Innovation Survey

The Business R&D and Innovation Survey (BRDIS) measures spending on research and development activities by United States businesses. This survey replaced the Survey of Industrial Research and Development that had been collected since the 1950's. The BRDIS collects global as well as domestic spending information, more detailed information about the R&D workforce, and information regarding innovation and intellectual property from U.S. businesses. The Census Bureau collects and compiles this information in accordance with a joint project agreement between the National Science Foundation (NSF) and the Census Bureau. The NSF publishes the results in its publication series. All data items are collected on a mandatory basis under the authority of Title 13, United States Code.

Manufacturers' Unfilled Orders Survey

The Manufacturers' Unfilled Orders Survey collects data on sales and unfilled orders in order to provide annual benchmarks for unfilled orders for the monthly Manufacturers' Shipments, Inventories, and Orders (M3) survey. The monthly M3 uses the shipment and inventory data from Annual Survey of Manufactures as the source of benchmark data, however unfilled orders are not collected on the Annual Survey of Manufactures. The annual Manufacturers' Unfilled Orders will be used to determine whether it is necessary to collect unfilled orders data for specific industries on a monthly basis (on the monthly M3 survey form). All data items are collected on a mandatory basis under the authority of Title 13, United States Code.

Notwithstanding any other provision of law, no person is required to respond to, nor shall a person be subject to a penalty for failure to comply with a collection of information subject to the requirements of the Paperwork Reduction Act (PRA) unless that collection of information displays a current valid Office of Management and Budget (OMB) control number. In accordance with the PRA, 44 U.S.C., Chapter 45, OMB approved the annual surveys under the following OMB control numbers: Annual Survey of Manufactures; 0607-0449, Business R&D and Innovation Survey; 0607-0912, Manufacturers' Unfilled Orders Survey; 0607-0561.

Based upon the foregoing, I have directed that the annual surveys in the manufacturing area be conducted for the purpose of collecting these data.

Dated: November 17, 2014.
John H. Thompson,
Director, Census Bureau.

[FR Doc. 2014-27600 Filed 11-20-14; 8:45 am]

BILLING CODE 3510-07-P